DEPARTMENT OF TRANSPORTATION

Federal Aviation Administration

14 CFR Part 39

[Docket No. FAA-2014-0333; Directorate Identifier 2013-SW-025-AD]

RIN 2120-AA64

Airworthiness Directives; Airbus Helicopters (Previously Eurocopter France) (Airbus Helicopters) Helicopters

AGENCY: Federal Aviation Administration (FAA), DOT.

ACTION: Notice of proposed rulemaking (NPRM).

SUMMARY: We propose to adopt a new airworthiness directive (AD) for Airbus Helicopters Model EC225LP, AS332C, AS332L, AS332L1, and AS332L2 helicopters. This proposed AD would require inspecting each TECALEMIT flexible hydraulic hose (hose) installed in the main gearbox (MGB) compartment and replacing the hose if a crack, cut, or other damage exists. This proposed AD is prompted by reports about the loss of in-flight hydraulic pressure on Eurocopter helicopters. The proposed actions are intended to prevent loss of the hydraulic system and consequently, loss of helicopter control.

DATES: We must receive comments on this proposed AD by August 1, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: Rao Edupuganti, Aviation Safety Engineer, Safety Management Group, Rotorcraft Directorate, FAA, 2601 Meacham Blvd., Fort Worth, Texas 76137; telephone (817) 222-5110; email rao.edupuganti@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0069, dated March 18, 2013, to correct an unsafe condition for Eurocopter (now Airbus Helicopters) Model AS332C, AS332C1, AS332L, AS332L1, AS332L2, and EC225LP helicopters. EASA advises that in-flight losses of hydraulic pressure were reported on these helicopters because of “significant” tears on the protection sheath of MGB hydraulic flexible “pipes” manufactured by TECALEMIT. This condition could lead to simultaneous left-hand and right-hand hydraulic system leakage, loss of the hydraulic system, and consequently, loss of helicopter control could occur, EASA advises.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter issued Service Bulletin (SB) No. EC225-05-027, Revision 1, dated July 17, 2013, for Model EC225LP helicopters and SB No. AS332-05.00.92, Revision 1, dated July 17, 2013, for Model AS332C, AS332C1, AS332L, AS332L1, AS332L2 and military Model AS332B, AS332B1, AS332F1, AS332M and AS332M1 helicopters. The SBs state Eurocopter received a report concerning the loss of pressure in the left-hand hydraulic system in-flight. Hydraulic fluid was found in the cabin, though the flight was completed without further incident. An examination of the hydraulic system showed that the hose located between the forward servo-control and the hydraulic manifold had burst. Further investigations have shown corrosion on the metal braid located under the fire-resistant sheath of hoses manufactured by TECALEMIT. The corrosion may be caused by the deterioration or gaping of the fire-resistant sheath at the hose ends, enabling humidity to enter between the sheath and the metal braid. Eurocopter recommends inspecting the hoses regardless of their manufacturer. As a result, the SBs require checking each hose for a notch, tear, crack, or friction mark, measuring any damage found, and replacing any hose that has damage.

Proposed AD Requirements

This proposed AD would require: Within 110 hours time-in-service (TIS) and every 110 hours TIS thereafter, visually inspecting each TECALEMIT hose installed in the MGB compartment. If there is a cut or crack in the hose sheath that allows you to see the metal braid underneath, replace the hose before further flight. If there is a cut, crack or other damage in the hose on the right hand hydraulic system that does not allow you to see the metal braid underneath, replace the hose with an airworthy hose within 300 hours TIS. If there is a cut, crack or other damage in the hose on the left hand hydraulic system that does not allow you to see the metal braid underneath, replace the hose with an airworthy hose within 600 hours TIS.

Differences Between the Proposed AD and the EASA AD

The EASA AD requires a one-time inspection, while the proposed AD would require that the inspection of the hoses be repeated every 110 hours TIS. The EASA AD requires that if severe damage is found in a hose on the right hand hydraulic system then the hose be replaced before the next flight, while the proposed AD would require this regardless of whether the hose is on the right hand or left hand hydraulic system. The EASA AD applies to Airbus Helicopters Model AS332C1 helicopter. The proposed AD would not because Model AS332C1 helicopters have no FAA type certificate. The EASA had sets some compliance times based on months. We set compliance times based only on hours TIS.

Costs of Compliance

We estimate that this proposed AD would affect 19 helicopters of U.S. Registry and that labor costs average $85 a work-hour. Based on these estimates, we expect the following costs:

Inspecting the hoses installed in a MGB compartment would require 1.5 work-hours for a labor cost of about $128 per helicopter, $2,432 for the U.S. fleet.

Replacing a hose would require 2.5 work-hours for a labor cost of about $213. Parts would cost $2,000 for a total cost of $2,213 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters (Previously Eurocopter France) (Airbus Helicopters): Docket No. FAA-2014-0333; Directorate Identifier 2013-SW-025-AD.

(a) Applicability

This AD applies to Airbus Helicopters Model EC225LP, AS332C, AS332L, AS332L1, and AS332L2 helicopters with a TECALEMIT main gear box (MGB) hydraulic flexible hose (hose) installed, certificated in any category.

(b) Unsafe Condition

This AD defines the unsafe condition as loss of hydraulic pressure because of the failure of a hose. This condition could result in loss of the hydraulic system and consequently, loss of helicopter control.

(c) Comments Due Date

We must receive comments by August 1, 2014.

(d) Compliance

You are responsible for performing each action required by this AD within the specified compliance time unless it has already been accomplished prior to that time.

(e) Required Actions

(1) Within 110 hours time-in-service (TIS), and thereafter at intervals not to exceed 110 hours TIS, visually inspect each TECALEMIT hose installed in the MGB compartment for a cut, crack, or other damage.

(2) If there is a cut, crack, or any other damage in the hose sheath that allows you to see the metal braid underneath when pinching or twisting the sheath, replace the hose before further flight.

(3) If there is a cut, crack, or any other damage in the hose sheath on the right hand hydraulic system that does not allow you to see the metal braid underneath, replace the hose within 300 hours TIS.

(4) If there is a cut, crack, or any other damage in the hose sheath on the left hand hydraulic system that does not allow you to see the metal braid underneath, replace the hose within 600 hours TIS.

(f) Alternative Methods of Compliance (AMOCs)

(1) The Manager, Safety Management Group, FAA, may approve AMOCs for this AD. Send your proposal to: Rao Edupuganti, Aviation Safety Engineer, Safety Management Group, Rotorcraft Directorate, FAA, 2601 Meacham Blvd., Fort Worth, Texas 76137; telephone (817) 222-5110; email rao.edupuganti@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter Service Bulletin (SB) No. EC225-05-027 and SB No. AS332-05.00.92, both Revision 1 and dated July 17, 2013; Eurocopter SB No. AS332-29.00.17 and SB No. EC225-29-005, both Revision 0 and both dated June 21, 2013; and Eurocopter Information Notice No. 2506-I-29, Revision 2, dated July 24, 2013; which are not incorporated by reference, contain additional information about the subject of this AD. For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

(2) The subject of this AD is addressed in the European Aviation Safety Agency (EASA) AD No. 2013-0069, dated March 18, 2013. You may view the EASA AD on the Internet at http://www.regulations.gov in Docket No. FAA-2014-0333.

(h) Subject

Joint Aircraft Service Component (JASC) Code: 2910, Main Hydraulic System.

Issued in Fort Worth, Texas, on May 21, 2014.
Lance T. Gant,
Acting Directorate Manager, Rotorcraft Directorate, Aircraft Certification Service.

[FR Doc. 2014-12740 Filed 5-30-14; 8:45 am]

BILLING CODE 4910-13-P